INTER-AMERICAN FOUNDATION

60-Day Notice for IAF Questions Related to Consultation With Indigenous Grantees and Tribal Nations (PRA)

AGENCY: Inter-American Foundation.

ACTION: Notice.

SUMMARY: The Inter-American Foundation (IAF), as part of its continuing efforts to reduce paperwork and respondent burden, conducts a preclearance consultation program to provide the general public and federal agencies with an opportunity to comment on proposed and/or continuing collections of information in accordance with the Paperwork Reduction Act of 1995. This program helps ensure that requested data is provided in the desired format; reporting burden (time and financial resources) is minimized; collection instruments are clearly understood; and the impact of collection requirements on respondents is properly assessed.

DATES: Written comments must be submitted to the office listed in the address section below within 60 days from the date of this publication in the Federal Register.

ADDRESSES: Send comments to Natalia Mandrus, Inter-American Foundation, via email to nmandrus@iaf.gov and Edward Gracia, Inter-American Foundation, via email to egracia@iaf.gov.

SUPPLEMENTARY INFORMATION: In accordance with President Biden's January 26, 2021 memorandum on Tribal Consultation and Strengthening Nation-to-Nation Relationships, and Executive Order 13175, Consultation and Coordination with Tribal Governments (November 6, 2000), the IAF is committed to engaging in meaningful dialogue with Tribal Leaders. Currently, the IAF is soliciting comments concerning the information collection of organizations that may be Indigenous-led or Indigenous-serving in Latin America, the Caribbean, and the United States. The questions would give such organizations an opportunity to participate in the design and fulfilment of U.S. policies and actions that may impact their interests. Also, the IAF would like to gauge interest on grantee exchanges with Tribal Nations in the United States in order to share best practices.

The IAF is particularly interested in comments which:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Can help the agency minimize the burden of the collection of information on those who are to respond, including through the use of appropriate automated, electronic, mechanical, or other technological collection techniques or other forms of information technology, e.g., permitting electronic submission of responses.

A Notice by the Inter-American Foundation on June 3, 2021.
Aswathi Zachariah,
General Counsel.

[FR Doc. 2021-12358 Filed 6-11-21; 8:45 am]

BILLING CODE 7025-01-P